ENVIRONMENTAL PROTECTION AGENCY

[FRL-8029-5]

Guidance on Selecting Age Groups for Monitoring and Assessing Childhood Exposures to Environmental Contaminants

AGENCY: Environmental Protection Agency (EPA).

ACTION: Notice of availability.

SUMMARY: The U.S. Environmental Protection Agency's (EPA) Risk Assessment Forum (RAF) announces the availability of a final report, “Guidance on Selecting Age Groups for Monitoring and Assessing Childhood Exposures to Environmental Contaminants” (EPA/630/P-03/003F, November 2005). The purpose of this document is to complement existing EPA guidance and experience to assist Agency risk assessors in improving the accuracy and consistency of children's exposure assessments. The document describes a set of age groupings that can be used and, when necessary, adapted for purposes of designing monitoring studies and conducting risk assessments focused on children.

ADDRESSES: The document is available electronically through the Risk Assessment Forum's Web site (http://cfpub.epa.gov/ncea/raf/recordisplay.cfm?deid=55887). A limited number of paper copies will be available from EPA's National Service Center for Environmental Publications (NSCEP), P.O. Box 42419, Cincinnati, OH 45242; telephone 1-800-490-9198 or 513-489-8190; facsimile: 513-489-8695. Please provide your name and mailing address and the title and EPA number of the requested publication.

FOR FURTHER INFORMATION CONTACT: Gary Bangs, U.S. Environmental Protection Agency, National Center for Environmental Assessment, Risk Assessment Forum Staff, telephone 202-564-6667; facsimile 202-565-0062; e-mail: bangs.gary@epa.gov.

SUPPLEMENTARY INFORMATION: This document provides a set of early-life age groups for EPA scientists to consider when assessing children's exposure to environmental contaminants and the resultant potential dose. These recommended age groups are based on current understanding of differences in behavior and physiology which may impact exposures in children. A consistent set of early-life age groups, supported by an underlying scientific rationale, is expected to improve Agency exposure and risk assessments for children by increasing the consistency and comparability of risk assessments across the Agency; by improving accuracy and transparency in assessments for those cases where current practice might too broadly combine behaviorally and physiologically disparate age groups; and by fostering a consistent approach to future exposure surveys and data gathering efforts to generate improved exposure factors for children.

An external review draft of the document was made available for public comment in September 2003, and a meeting, to which the public was invited as observers, was held in January 2004 to provide independent expert peer review on the draft document. The document was revised based on input received during the peer review process, and from public review and comment. See Federal Docket Management System docket ID No. EPA-HQ-ORD-2004-0001 on the Internet at www.regulations.gov.

Dated: January 30, 2006.
Peter W. Preuss,
Director, National Center for Environmental Assessment.

[FR Doc. E6-1803 Filed 2-8-06; 8:45 am]

BILLING CODE 6560-50-P